DEPARTMENT OF THE INTERIOR

National Park Service

[N6757; NPS-WASO-NAGPRA-NPS0041520; PPWOCRADN0-PCU00RP14.R50000]

Notice of Inventory Completion: Washington State Parks and Recreation Commission, Olympia, WA

AGENCY: National Park Service, Interior.

ACTION: Notice.

SUMMARY: In accordance with the Native American Graves Protection and Repatriation Act (NAGPRA), the Washington State Parks and Recreation Commission (State Parks) has completed an inventory of human remains and associated funerary objects and has determined that there is a cultural affiliation between the human remains and associated funerary objects and Indian Tribes or Native Hawaiian organizations in this notice.

DATES: Repatriation of the human remains and associated funerary objects in this notice may occur on or after January 20, 2026.

ADDRESSES: Send written requests for repatriation of the human remains and associated funerary objects in this notice to Cameron Spencer, Washington State Parks and Recreation Commission, PO Box 42650, Olympia, WA 98504-2650, email Cameron.Spencer@parks.wa.gov.

SUPPLEMENTARY INFORMATION: This notice is published as part of the National Park Service's administrative responsibilities under NAGPRA. The determinations in this notice are the sole responsibility of State Parks, and additional information on the determinations in this notice, including the results of consultation, can be found in its inventory or related records. The National Park Service is not responsible for the determinations in this notice.

Abstract of Information Available

Human remains representing at least six individuals have been identified. The 65,502 associated funerary objects are unmodified shell, perforated shell, unmodified bone, modified bone and antler objects, fire modified rock, stone tools, ochre, charcoal, bulk material, and botanical material. Between 2000 and 2008, State Parks contracted Cascadia Archaeology to survey and subsequently perform excavation and data recovery of site 45-IS-2 for the purposes of upgrading sewer and utility lines. No known individuals were identified. No hazardous chemicals are known to have been used to treat the ancestral remains while in the care of State Parks.

Cultural Affiliation

Based on the information available and the results of consultation, cultural affiliation is clearly identified by the information available about the human remains and associated funerary objects described in this notice.

Determinations

State Parks has determined that:

• The human remains described in this notice represent the physical remains of six individuals of Native American ancestry.

• The 65,502 objects described in this notice are reasonably believed to have been placed intentionally with or near individual human remains at the time of death or later as part of the death rite or ceremony.

• There is a connection between the human remains and associated funerary objects described in this notice and the Sauk-Suiattle Indian Tribe; Stillaguamish Tribe of Indians of Washington; Swinomish Indian Tribal Community; Tulalip Tribes of Washington; and the Upper Skagit Indian Tribe.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after January 20, 2026. If competing requests for repatriation are received, the State Parks must determine the most appropriate requestor prior to repatriation. Requests for joint repatriation of the human remains and associated funerary objects are considered a single request and not competing requests. State Parks is responsible for sending a copy of this notice to the Indian Tribes and Native Hawaiian organizations identified in this notice.

Authority: Native American Graves Protection and Repatriation Act, 25 U.S.C. 3003, and the implementing regulations, 43 CFR 10.10.

Dated: December 3, 2025.
Melanie O'Brien,
Manager, National NAGPRA Program.

[FR Doc. 2025-23199 Filed 12-17-25; 8:45 am]

BILLING CODE 4312-52-P